FEDERAL RESERVE SYSTEM

Formations of, Acquisitions by, and Mergers of Bank Holding Companies; Correction

This notice corrects a notice (FR Doc. E6-5930) published on page 20401 of the issue for Thursday, April 20, 2006.

Under the Federal Reserve Bank of Kansas City heading, the entry for Dickinson Financial Corporation II, Kansas City, Missouri, is revised to read as follows:

A. Federal Reserve Bank of Kansas City (Donna J. Ward, Assistant Vice President) 925 Grand Avenue, Kansas City, Missouri 64198-0001:

1. Dickinson Financial Corporation II, and Dickinson Financial Corporation, both of Kansas City, Missouri; to acquire 100 percent of the voting shares of Southern Commerce Bank, Tampa, Florida.

Comments on this application must be received by May 15, 2006.

Board of Governors of the Federal Reserve System, April 20, 2006.
Jennifer J. Johnson,
Secretary of the Board.

[FR Doc. E6-6156 Filed 4-24-06; 8:45 am]

BILLING CODE 6210-01-S